DEPARTMENT OF COMMERCE

National Oceanic and Atmospheric Administration

[I.D. 101206D]

Endangered Species; File No. 1596

AGENCY: National Marine Fisheries Service (NMFS), National Oceanic and Atmospheric Administration (NOAA), Commerce.

ACTION: Notice; receipt of application.

SUMMARY: Notice is hereby given that NMFS Southwest Fisheries Science Center, 8604 La Jolla Shores Drive, La Jolla, CA 92037-1508, has applied in due form for a permit to take leatherback (Dermochelys coriacea) sea turtles for purposes of scientific research.

DATES: Written, telefaxed, or e-mail comments must be received on or before November 20, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1596.

FOR FURTHER INFORMATION CONTACT: Patrick Opay or Amy Hapeman, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The researchers propose to continue long-term monitoring of the status of leatherback sea turtles off the coasts of California, Oregon, and Washington to determine their abundance, distribution, size ranges, sex ratio, health status, diving behavior, local movements, habitat use, and migration routes. Up to 38 animals would be captured using a breakaway hoop net and be measured, weighed, blood and tissue sampled, photographed, and flipper and passive integrated transponder (PIT) tagged. A subset of animals would have biotelemetry devices (e.g., transmitters) attached to them. An additional 40 animals would be approached (but not captured) and have a VHF/TDR/sonic tag unit attached to them by suction cup using a long pole or these animals would be tissue sampled with a biopsy pole. The primary goal is to address priorities outlined in the U.S. Pacific leatherback Recovery Plan and identify critical forage habitats, genetic stock structure, migratory corridors, and potential fishery impacts on this species in the Pacific. This information is necessary to make informed management decisions concerning these turtles and their habitat. The permit would be issued for 5 years.

Dated: October 16, 2006.
P. Michael Payne,
Chief, Permits, Conservation and Education Division, Office of Protected Resources, National Marine Fisheries Service.

[FR Doc. E6-17584 Filed 10-19-06; 8:45 am]

BILLING CODE 3510-22-S